DEPARTMENT OF AGRICULTURE

Forest Service

DEPARTMENT OF THE INTERIOR

Bureau of Land Management

Survey and Manage Strategy for National Forests and Bureau of Land Management Districts Within the Range of the Northern Spotted Owl

AGENCIES: Forest Service, USDA; Bureau of Land Management, USDI.

ACTION: Revised notice of intent to prepare an environmental impact statement.

SUMMARY: The original notice of intent (NOI) was published in Federal Register on November 25, 1998 (63 FR 65167).

This notice stated that the Forest Service and Bureau of Land Management (BLM) were in the process of preparing a Supplemental EIS (SEIS) considering alternatives to make changes in mitigation measures first adopted in the Standards and Guidelines for Management of habitat for Late-Successional and Old-Growth Forest Related Species Within the Range of the Northern Spotted Owl (Northwest Forest Plan), and incorporated into planning documents for administrative units of the Forest Service and BLM. This revised NOI changes how the Record of Decision will be issued; changes the Responsible Official; changes what Forest Service planning documents are being amended, corrects the statements concerning appeal procedures; and changes the title of the SEIS. The Final SEIS is expected to be released in May 2000.

FOR FURTHER INFORMATION CONTACT: Hugh Snook, EIS Team Coordinator, P.O. Box 3623, Portland, Oregon 97208-3623, telephone (503) 808-2197.

SUPPLEMENTARY INFORMATION: A single Record of Decision will be issued and will apply to public lands within the range of the Northern Spotted Owl that are administered by the BLM and the Forest Service. This includes lands in Oregon, Washington, and northern California. The Record of Decision will be signed jointly by the two responsible officials.

The responsible officials for this document have been changed. The responsible official for lands administered by the Forest Service will be the Secretary of Agriculture. The responsible official for public lands administered by the BLM will be the Secretary of Interior.

In addition to Land and Resource Management Plans for National Forests and Resource Management Plans for BLM Districts as listed in the original NOI, selection of an alternative of this SEIS would amend Forest Service Regional Guides for the Pacific Northwest and Pacific Southwest Regions.

The Record of Decision for this SEIS will not be subject to appeal under either Forest Service or BLM appeal procedures. A decision by the Secretary of Agriculture is not subject to administrative appeal under the Forest Service appeal regulations (36 CFR Part 217). A decision by the Secretary of Interior is not subject to administrative appeal under BLM protest procedures (43 CFR 4.410). Therefore, the Record of Decision will be the final agency for amendment of these standards and guidelines in the applicable planning documents.

In the original NOI, the title for the SEIS was identified as “Survey an Manage Strategy for National Forests and Bureau of Land management Districts Within the Range of the Northern Spotted Owl”. The changed title more accurately reflects the analysis and decision to be made. Therefore, this title is revised to: “For Amendment to the Survey and Manage, Protection Buffer, and Other Mitigation Measures Standards and Guidelines”.

Dated: April 19, 2000.
Harv Forsgren,
Regional Forester, Pacific Northwest Region, Forest Service.
April 14, 2000.
Elaine Y. Zielinski,
State Director, Oregon and Washington, Bureau of Land Management.

[FR Doc. 00-10345 Filed 4-25-00; 8:45 am]

BILLING CODE 3410-11-M